CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps State and National Grantee Progress Report for review and approval in accordance with the Paperwork Reduction Act of 1995. Copies of this ICR, with applicable supporting documentation, may be obtained by calling the Corporation for National and Community Service, Carla Ganiel, at 202-606-6773 or email to cganiel@cns.gov. Individuals who use a telecommunications device for the deaf (TTY-TDD) may call 1-800-833-3722 between 8:00 a.m. and 8:00 p.m. Eastern Time, Monday through Friday.

DATES: Comments may be submitted, identified by the title of the information collection activity, within January 23, 2017.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published pursuant to the PRS, Public Law 104-13, (44 U.S.C. Chapter 35), in the Federal Register on September 16, 2016, at 81 FR 63746. This comment period ended November 15, 2016. Five public comments were received from this Notice.

Summary of comments by Category and CNCS response:

Category 1: Statements of Support for a GPR Update. A total of four comments expressed support for updates to the GPR instructions. One commenter noted that the revised instructions eliminated duplication. Two commenters expressed support for changes made to narrative questions. One commenter expressed appreciation for CNCS's electronic reporting system.

Response: CNCS agrees with these comments.

Category 2: Time Estimate. Two comments addressed the time estimate. One commenter stated that the time estimate of 8 hours per GPR was accurate. One commenter stated that the time estimate should be set at 10 hours per GPR.

Response: CNCS believes that the time required varies depending on the type of GPR and has adjusted time to reflect this variation. CNCS estimates ten hours for end-of-year GPRs, eight hours for mid-year GPRs and four hours for final GPRs and planning grants.

Category 3: Demographic Indicators. Three comments addressed demographic indicators. Two commenters suggested removal of outdated demographic indicators in the Volunteer Generation Fund demographics. One commenter stated that new monitoring demographics in the Commission Support Grant GPR would increase burden, and two commenters questioned the utility and clarity of proposed demographic indicators related to monitoring activities.

Response: CNCS has removed the indicators specified in the public comments from the Volunteer Generation Fund and Commission Support Grant GPRs.

Category 4: Instructions. Two comments stated that the Commission-specific GPR guidance was difficult to understand.

Response: This comment is outside the scope of the information request, which does not include Commission-specific GPR guidance.

Category 5: Midyear GPR. Two comments recommended removing the requirement to explain unmet performance measure targets in the mid-year GPR.

Response: CNCS agrees and has removed the requirement to explain unmet targets in the mid-year GPR.

Category 6: Narratives. Four comments addressed GPR narrative questions. One commenter recommended an additional narrative question requiring national direct grantees to describe how they collaborate with State Commissions. Two commenters did not support removing narrative questions from the Volunteer Generation Fund GPR. Two commenters stated that the “other explanations” narrative should only be used to collect information specified in the GPR instructions.

Response: The recommended question for national direct grantees would not provide enough useful information to justify its inclusion in the GPR. While some narratives have been removed from the Volunteer Generation Fund instructions to reduce burden and duplication, CNCS has revised one of the remaining narratives to collect additional information about VGF activity. CNCS intends that the “other explanations” narrative will only be used to collect information specified in the GPR instructions, primarily narrative responses that exceed character limits in other narrative fields in the electronic reporting system.

Category 7: Previous GPR Instructions. CNCS received one comment on the previous version of the GPR instructions.

Response: The current information collection replaces the previous version of the GPR instructions. This comment is therefore outside the scope of the information request.

Category 8: GPR Processes. Four comments addressed GPR-related processes that are not part of the information collection itself. Two commenters stated that the GPR duplicates information collected in past performance and recommendation summaries required as part of the grant application process. Three commenters suggested that CNCS provide a list of GPR reporting requirements in the grant Terms & Conditions. One commenter recommended that there be one GPR for multiple prime grants in a state. One commenter recommended that CNCS make changes to its electronic reporting system so that grant amendments do not interfere with completion and submission of the GPR.

Response: These comments are outside the scope of the information request. CNCS has attempted to address incomplete GPR data by requesting additional data during the application process. Data collection will remain in the GPR; however, comments will be shared with the application planning team. CNCS will add a list of GPR reporting requirements to the grant Terms & Conditions. In the current electronic reporting system it is not possible to aggregate data from multiple prime grants awarded in one state, but this is a goal for the reporting system currently under development. CNCS is currently pursuing changes to the existing electronic reporting system to address the issue of grant amendments that interfere with completion and submission of the GPR.

Category 9: Timing. One comment was received concerning the timing of off-cycle performance measure data. Some programs may collect performance measure data after the GPR reporting period has ended, and one commenter recommended that CNCS develop a more useful way to collect off-cycle performance measure data.

Response: CNCS will revise guidance about how to report off-cycle performance measure data in subsequent GPRs or the final GPR.

Description: CNCS requires grantees of AmeriCorps State and National, School Turnaround AmeriCorps, Commission Support Grant, Commission Investment Funds, and the Volunteer Generation Fund to submit Grantee Progress Reports (GPRs). This information collection comprises the questions that grantees of these grant programs will answer to report progress to CNCS.

Type of Review: Renewal.

Agency: Corporation for National and Community Service.

Title: AmeriCorps State and National Grantee Progress Report

OMB Number: TBD.

Agency Number: None.

Affected Public: Grantees of AmeriCorps State and National, School Turnaround AmeriCorps, Commission Support Grant, Commission Investment Funds, and Volunteer Generation Fund.

Total Respondents: 300 total respondents for AmeriCorps State and National and School Turnaround AmeriCorps. 52 respondents each for Commission Support Grants and Commission Investment Funds. 20 respondents for Volunteer Generation Fund.

Frequency: Semiannual for AmeriCorps State and National and School Turnaround AmeriCorps operational grants with an additional final GPR at the end of the award period. Annual for Volunteer Generation Fund, Commission Support Grant and Commission Investment Funds. Average Time Per Response: 11 hours for AmeriCorps GPRs. 10 hours for all other GPRs.

Estimated Total Burden Hours: 7,040.

Total Burden Cost (capital/startup): None.

Total Burden Cost (operating/maintenance): None.

Dated: December 16, 2016.
Bill Basl,
Director, AmeriCorps State and National.

[FR Doc. 2016-30865 Filed 12-21-16; 8:45 am]

BILLING CODE 6050-28-P